OFFICE OF THE UNITED STATES TRADE REPRESENTATIVE

Determination Regarding Waiver of Discriminatory Purchasing Requirement With Respect to Goods and Services Covered by Chapter 13 of the U.S.-Singapore Free Trade Agreement

AGENCY: Office of the United States Trade Representative.

ACTION: Determination under Trade Agreements Act of 1979.

EFFECTIVE DATE: January 1, 2004.

FOR FURTHER INFORMATION CONTACT: Jean Heilman Grier, Senior Procurement Negotiator, Office of the United States Trade Representative, (202) 395-9476, or Theodore R. Posner, Assistant General Counsel, Office of the United States Trade Representative, (202) 395-9512.

On May 6, 2003, the United States and Singapore entered into the United States-Singapore Free Trade Agreement (“USSFTA”). Chapter 13 of the USSFTA sets forth certain obligations with respect to government procurement of goods and services, as specified in Annex 13A of the USSFTA.

On September 3, 2003, the President signed into law the United States-Singapore Free Trade Agreement Implementation Act (“the USSFTA ACT”) (Pub. L. No. 108-78, 117 Stat. 948) (19 U.S.C. 3805 note). In section 101(a) of the USSFTA Act, the Congress approved the USSFTA and the statement of administrative action proposed to implement the USSFTA that the President submitted to the Congress.

Section 1-201 of Executive Order 12260 of December 31, 1980 (46 FR 1653) delegates the functions of the President under Sections 301 and 302 of the Trade Agreements Act of 1979 (“the Trade Agreements Act”) (19 U.S.C. 2511, 2512) to the United States Trade Representative.

On January 1, 1981, acting pursuant to Executive Order 12260, the Acting United States Trade Representative designated Singapore for purposes of section 301(a) of the Trade Agreements Act, on the basis of Singapore's status as a party to the predecessor to the World Trade Organization Agreement on Government Procurement. Singapore is a party to World Trade Organization Agreement on Government Procurement (“the GPA”) and continues to be designated for purposes of section 301(a) of the Trade Agreements Act.

Under the USSFTA, Singapore will provide reciprocal competitive government procurement opportunities to United States products and suppliers of such products, which are greater than the reciprocal competitive government procurement opportunities Singapore provides to United States products and suppliers of such products under the GPA. Singapore's commitment to provide such reciprocal competitive procurement opportunities constitutes an independent basis for its designation for purposes of section 301(a) of the Trade Agreements Act.

Now, therefore, I, Robert B. Zoellick, United States Trade Representative, in conformity with the provisions of sections 301 and 302 of the Trade Agreements Act, and Executive Order 12260, and in order to carry out U.S. obligations under Chapter 13 of the USSFTA, do hereby determine, effective on January 1, 2004, that:

1. Singapore is a country, other than a major industrial country, which, pursuant to the USSFTA, will provide appropriate reciprocal competitive government procurement opportunities to United States products and suppliers of such products. In accordance with section 301(b)(3) of the Trade Agreements Act, Singapore is so designated for purposes of section 301(a) of the Trade Agreements Act.

2. With respect to eligible products of Singapore (i.e., goods and services covered by the Schedules of the United States in Annex 13A of the USSFTA) and suppliers of such products, the application of any law, regulation, procedure, or practice regarding government procurement that would, if applied to such products and suppliers, result in treatment less favorable than that accorded—

(A) To United States products and suppliers of such products; or

(B) To eligible products of another foreign country or instrumentality which is a party to the GPA and suppliers of such products, shall be waived.

This waiver shall be applied by all entities referred to in Schedules 1.A and 1.C of the United States Annex 13A of the USSFTA.

3. The designation in paragraph 1 and the waiver in paragraph 2 are subject to modification or withdrawal by the United States Trade Representative.

Dated: December 16, 2003.
Robert B. Zoellick,
United States Trade Representative.

[FR Doc. 03-31371 Filed 12-18-03; 8:45 am]

BILLING CODE 3190-W3-M